DEPARTMENT OF TRANSPORTATION

Federal Aviation Administration

14 CFR Part 39

[Docket No. FAA-2006-23850; Directorate Identifier 2005-NM-126-AD]

RIN 2120-AA64

Airworthiness Directives; McDonnell Douglas Model MD-10-10F and MD-10-30F Airplanes and Model MD-11 and MD-11F Airplanes

AGENCY: Federal Aviation Administration (FAA), Department of Transportation (DOT).

ACTION: Notice of proposed rulemaking (NPRM).

SUMMARY: The FAA proposes to supersede an existing airworthiness directive (AD) that applies to certain McDonnell Douglas Model MD-11 series airplanes. The existing AD currently requires a revision of the airplane flight manual (AFM) to alert the flightcrew that both flight management computers (FMC) must be installed and operational. The existing AD also requires an inspection to determine the serial number of the FMCs; and follow-on corrective actions, if necessary, which terminate the AFM revision. The existing AD also requires an inspection to verify if a certain modification is on the identification plates of the FMCs; and applicable follow-on and corrective actions. This proposed AD would require installation of upgraded flight management computer software, which would terminate the existing AD. This proposed AD would also add airplanes to the applicability, including adding Model MD-10-10F and MD-10-30F airplanes. This proposed AD results from a report that the FMC does not acknowledge the pre-set glareshield control panel (GCP) altitude when profile (PROF) mode is engaged in descent mode. We are proposing this AD to prevent the un-commanded descent of an airplane below the selected level-off altitude, which could result in an unacceptable reduction in the separation between the airplane and nearby air traffic or terrain.

DATES: We must receive comments on this proposed AD by April 3, 2006.

ADDRESSES: Use one of the following addresses to submit comments on this proposed AD.

• DOT Docket Web site: Go to

http://dms.dot.gov and follow the instructions for sending your comments electronically.

• Government-wide rulemaking Web site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for service information identified in this proposed AD.

FOR FURTHER INFORMATION CONTACT: Natalie Phan-Tran, Aerospace Engineer, Systems and Equipment Branch, ANM-130L, FAA, Los Angeles Aircraft Certification Office, 3960 Paramount Boulevard, Lakewood, California 90712-4137; telephone (562) 627-5343; fax (562) 627-5210.

SUPPLEMENTARY INFORMATION:

Comments Invited

We invite you to submit any relevant written data, views, or arguments regarding this proposed AD. Send your comments to an address listed in the ADDRESSES section. Include the docket number “Docket No. FAA-2006-23850; Directorate Identifier 2005-NM-126-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On October 15, 2001, we issued AD 2001-21-05, amendment 39-12476 (66 FR 53335, October 22, 2001), for certain McDonnell Douglas Model MD-11 series airplanes. That AD requires a revision of the airplane flight manual (AFM) to alert the flightcrew that both flight management computers (FMC) must be installed and operational. That AD also requires an inspection to determine the serial number of the FMCs; and follow-on corrective actions, if necessary, which terminate the AFM revision. That AD also requires an inspection to verify if a certain modification is on the identification plates of the FMCs; and applicable follow-on and corrective actions. That AD resulted from a report indicating that, due to incorrect multiplexers that were installed in the FMC's during production, certain data busses failed simultaneously during a ground test. We issued that AD to prevent loss of airspeed and altitude indications on both primary flight displays in the cockpit, and/or loss or degradation of the autopilot functionality, and consequent failure of the data busses.

Actions Since Existing AD Was Issued

Since we issued AD 2001-21-05, we have received a report that an operator has discovered an anomaly during a descent phase of flight where the FMC does not acknowledge the pre-set glareshield control panel (GCP) altitude when profile (PROF) mode is engaged in descent mode. As a result of the anomaly, the airplane may deviate below the selected level-off altitude. This condition, if not corrected, could result in an unacceptable reduction in the separation between the airplane and nearby air traffic or terrain.

Relevant Service Information

We have reviewed Boeing Service Bulletin MD11-34-068, Revision 3, dated April 6, 2004 (for Model MD-11 and MD-11F airplanes). The service bulletin describes procedures for installing hardware and software to upgrade the flight management computer from P/N 4059050-912 to P/N 4059050-920. The service bulletin refers to Honeywell Service Bulletin 4059050-34-0010, dated March 19, 2003, as an additional source of service information for doing the actions.

We have reviewed Boeing Service Bulletin MD11-34-129, dated September 22, 2004 (for Model MD-11 and MD-11F airplanes). The service bulletin describes procedures for installing new software in the main avionics rack and reidentifying FMC-1 and FMC-2 to P/N 4059050-921. The service bulletin refers to Honeywell Alert Service Bulletin 4059050-34-A6023, dated September 22, 2004, as an additional source of service information for doing the actions.

We have reviewed Boeing Service Bulletin MD11-34-130, dated March 16, 2005 (for Model MD-11 and MD-11F airplanes). The service bulletin describes procedures for installing new software in the main avionics rack and reidentifying FMCs to P/N 4059050-913. The service bulletin refers to Honeywell Alert Service Bulletin 4059050-34-A6024, dated March 9, 2005, as an additional source of service information for doing the actions.

We have reviewed Boeing Service Bulletin MD10-31-053, Revision 1, dated June 14, 2005 (for Model MD-10-10F and MD-10-30F airplanes). The service bulletin describes procedures for installing new software in the main avionics rack and reidentifying the versatile integrated avionics (VIA) digital computer as P/N 4081580-903. The service bulletin refers to Honeywell Alert Service Bulletin 4081580-31-A6002, dated January 14, 2005, as an additional source of service information for doing the actions.

Accomplishing the actions specified in the service information is intended to adequately address the unsafe condition.

Other Relevant Rulemaking

We have previously issued AD 2004-18-04, amendment 39-13782 (69 FR 53794, September 3, 2004) (A correction of the rule was published in the Federal Register on September 21, 2004 (69 FR 56480). That AD applies to all McDonnell Douglas MD-10-10F, MD-10-30F, MD-11, MD-11F, and 717-200 airplanes, and requires revising the Limitations section of the AFM to prohibit the use of the flight management system PROF mode for descent and/or approach operations unless certain conditions are met. Doing the applicable software/hardware upgrades that would be required by paragraphs (j) and (k) of this proposed AD are approved as an alternative method of compliance for the actions required by AD 2004-18-04.

FAA's Determination and Requirements of the Proposed AD

We have evaluated all pertinent information and identified an unsafe condition that is likely to develop on other airplanes of the same type design. For this reason, we are proposing this AD, which would supersede AD 2001-21-05. This proposed AD would retain the requirements of AD 2001-21-05 and would require accomplishing the actions specified in the service information described previously, which would terminate the requirements of the existing AD. This proposed AD also expands the applicability to include all Model MD-11 and MD-11F airplanes and certain Model MD-10-10F and MD-10-30F airplanes.

Accomplishing the actions specified in the service information is intended to adequately address the unsafe condition.

Explanation of Change to Applicability

We have revised the applicability of the existing AD to identify model designations as published in the most recent type certificate data sheet for the affected models.

Clarification of Alternative Method of Compliance (AMOC) Paragraph

We have revised this action to clarify the appropriate procedure for notifying the principal inspector before using any approved AMOC on any airplane to which the AMOC applies.

Change to Existing AD

This proposed AD would retain all requirements of AD 2001-21-05. Since AD 2001-21-05 was issued, the AD format has been revised, and certain paragraphs have been rearranged. As a result, the corresponding paragraph identifiers have changed in this proposed AD, as listed in the following table:

Revised Paragraph Identifiers
Requirement in AD 2001-21-05 | Corresponding requirement in this proposed AD
Paragraph (a) | Paragraph (f).
Paragraph (b) | Paragraph (g).
Paragraph (c) | Paragraph (h).
Paragraph (d) | Paragraph (i).

Clarification of Paragraph Reference

Paragraph (d) of AD 2001-21-05 references “the inspection required by paragraph (a) of this AD.” However, there is no inspection in paragraph (a) of AD 2001-21-05; the inspection is specified in paragraph (b) of AD 2001-21-05. We have the revised paragraph (i) of this proposed AD (specified as paragraph (d) of AD 2001-25-05) to reference “the inspection required by paragraph (g) of this AD” (specified as paragraph (b) of AD 2001-25-05).

Costs of Compliance

There are about 230 airplanes of the affected design in the worldwide fleet and about 117 U.S.-registered airplanes. The following table provides the estimated costs for U.S. operators to comply with this proposed AD. The average labor rate per hour is $65.

Estimated Costs
Action | Work hours | Parts | Cost per airplane | Number of U.S.-registered airplanes | Fleet cost
AFM Revision, Inspections and Software Installation (required by AD 2001-21-05) | 2 | $0 | $130 | 59 | $7,670
Upgrade Software/Hardware (new proposed action) | 2 | 0 | 130 | 117 | 15,210

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12476 (66 FR 53335, October 22, 2001) and adding the following new airworthiness directive (AD):

McDonnell Douglas: Docket No. FAA-2006-23850; Directorate Identifier 2005-NM-126-AD.

Comments Due Date

(a) The FAA must receive comments on this AD action by April 3, 2006.

Affected ADs

(b) This AD supersedes AD 2001-21-05.

Applicability

(c) This AD applies to McDonnell Douglas airplanes, as specified in paragraphs (c)(1) and (c)(2) of this AD, certificated in any category.

(1) Model MD-10-10F and MD-10-30F airplanes, as identified in Boeing Service Bulletin MD10-31-053, Revision 1, dated June 14, 2005.

(2) All Model MD-11 and MD-11F airplanes.

Unsafe Condition

(d) This AD results from a report that the flight management computer (FMC) does not acknowledge the pre-set glareshield control panel (GCP) altitude when profile (PROF) mode is engaged in descent mode. We are issuing this AD to prevent the un-commanded descent of an airplane below the selected level-off altitude, which could result in an unacceptable reduction in the separation between the airplane and nearby air traffic or terrain.

Compliance

(e) You are responsible for having the actions required by this AD performed within the compliance times specified, unless the actions have already been done.

Restatement of Requirements of AD 2001-21-05

Airplane Flight Manual (AFM) Revision

(f) For MD-11 and MD-11F airplanes having manufacturer's fuselage numbers 0447 through 0552 inclusive, and 0554 through 0621 inclusive: Within 5 days after May 20, 1998 (the effective date of AD 98-10-01, amendment 39-10512), revise Section 1, page 5-1, of the Limitations Section of the FAA-approved AFM to include the following statement. This may be accomplished by inserting a copy of this AD into the AFM.

“Prior to dispatch of the airplane, both Flight Management Computer 1 (FMC-1) and FMC-2 must be installed and operational.”

Inspection

(g) For MD-11 and MD-11F airplanes having manufacturer's fuselage numbers 0447 through 0552 inclusive, and 0554 through 0621 inclusive: Within 90 days after November 26, 2001 (the effective date of AD 2001-21-05), do an inspection to verify that modification “AS” is on the front and rear identification plates of FMC-1 and FMC-2, per McDonnell Douglas Service Bulletin MD11-34-085, Revision 01, dated September 20, 1999. After the inspection has been done, the AFM revision required by paragraph (f) of this AD may be removed from the AFM.

Condition 1 (Modification “AS” Is Installed)

(h) If modification “AS” is found installed during the inspection required by paragraph (g) of this AD, before further flight, do the actions specified in paragraphs (h)(1) and (h)(2) of this AD, per McDonnell Douglas Service Bulletin MD11-34-085, Revision 01, dated September 20, 1999.

(1) Do a test of the FMCs in the flight compartment to ensure that modification “AS” is operational, and do applicable corrective actions, if necessary. Both FMCs must have modification “AS” installed and pass the test before loading new software per paragraph (h)(2) of this AD.

(2) Install new software and reidentify FMC-1 and FMC-2 as part number (P/N) 4059050-912.

Note 1: McDonnell Douglas Service Bulletin MD11-34-085, Revision 01, dated September 20, 1999, references Honeywell Service Bulletin 4059050-34-6020, Revision 1, dated April 30, 1999, as an additional source of service information for the installation and reidentification requirements of paragraphs (h)(2) and (i)(2) of this AD.

Condition 2 (Modification “AS” Is Not Installed)

(i) If modification “AS” is NOT found installed during the inspection required by paragraph (g) of this AD, before further flight, do the actions specified in paragraphs (i)(1), (i)(2), and (i)(3) of this AD, per McDonnell Douglas Service Bulletin MD11-34-085, Revision 01, dated September 20, 1999.

(1) Remove FMC-1 and FMC-2.

(2) Install modification “AS” and new software, and reidentify FMC-1 and FMC-2 as P/N 4059050-912.

(3) Install modified and reidentified FMC-1 and FMC-2.

New Requirements of This AD

Upgrade Software/Hardware—Model MD-11 and MD-11F Airplanes

(j) For Model MD-11 and MD-11F airplanes: Within 18 months after the effective date of this AD, upgrade the FMC software, and hardware as applicable, by doing the applicable actions specified in paragraph (j)(1), (j)(2), (j)(3), or (j)(4) of this AD. Doing this upgrade terminates the requirements of paragraphs (f) through (i) of this AD.

(1) For airplanes on which FMC P/N 4059050-906 through -912 is installed: Install new software in the main avionics rack, and reidentify FMC-1 and FMC-2 as P/N 4059050-913, in accordance with the Accomplishment Instructions of Boeing Service Bulletin MD11-34-130, dated March 16, 2005.

Note 2: Boeing Service Bulletin MD11-34-130 refers to Honeywell Alert Service Bulletin 4059050-34-A6024, dated March 9, 2005, as an additional source of service information for doing the actions specified in paragraph (j)(1) of this AD.

(2) For airplanes on which FMC P/N 4059050-920 is installed: Install new software in the main avionics rack, and reidentify FMC-1 and FMC-2 as P/N 4059050-921, in accordance with the Accomplishment Instructions of Boeing Service Bulletin MD11-34-129, dated September 22, 2004.

Note 3: Boeing Service Bulletin MD11-34-129 refers to Honeywell Alert Service Bulletin 4059050-34-A6023, dated September 22, 2004, as an additional source of service information for doing the actions specified in paragraph (j)(2) of this AD.

(3) For airplanes on which FMC P/N 4059050-906 through -911 is installed: In lieu of doing the software upgrade specified in paragraph (j)(1) of this AD, install new hardware and software and reidentify FMC-1 and FMC-2 as P/N 4059050-921, by doing all the applicable actions specified in the Accomplishment Instructions of McDonnell Douglas Service Bulletin MD11-34-085, Revision 01, dated September 20, 1999; Boeing Service Bulletin MD11-34-068, Revision 3, dated April 6, 2004; and Boeing Service Bulletin MD11-34-129, dated September 22, 2004.

Note 4: McDonnell Douglas Service Bulletin MD11-34-085 references Honeywell Service Bulletin 4059050-34-6020, Revision 1, dated April 30, 1999; Boeing Service Bulletin MD11-34-068 references Honeywell Service Bulletin 4059050-34-0010, dated March 19, 2003; and Boeing Service Bulletin MD11-34-129 refers to Honeywell Alert Service Bulletin 4059050-34-A6023, dated September 22, 2004; as additional sources of service information for the doing the actions specified in paragraph (j)(3) of this AD.

(4) For airplanes on which FMC P/N 4059050-912 is installed: In lieu of doing the software upgrade specified in paragraph (j)(1) of this AD, install new hardware and software and reidentify FMC-1 and FMC-2 as P/N 4059050-921, by doing all the applicable actions specified in the Accomplishment Instructions of Boeing Service Bulletin MD11-34-068, Revision 3, dated April 6, 2004; and Boeing Service Bulletin MD11-34-129, dated September 22, 2004.

Note 5: Boeing Service Bulletin MD11-34-068 references Honeywell Service Bulletin 4059050-34-0010, dated March 19, 2003; and Boeing Service Bulletin MD11-34-129 refers to Honeywell Alert Service Bulletin 4059050-34-A6023, dated September 22, 2004; as additional sources of service information for the doing the actions specified in paragraph (j)(4) of this AD.

Upgrade Software—Model MD-10-10F and MD-10-30F Airplanes

(k) For Model MD-10-10F and MD-10-30F airplanes: Within 18 months after the effective date of this AD, install new software in the main avionics rack and reidentify the versatile integrated avionics (VIA) digital computer as P/N 4081580-903, in accordance with the Accomplishment Instructions of Boeing Service Bulletin MD10-31-053, Revision 1, dated June 14, 2005.

Note 6: Boeing Service Bulletin MD10-31-053 refers to Honeywell Alert Service Bulletin 4081580-31-A6002, dated January 14, 2005, as an additional source of service information for doing the actions specified in paragraph (k) of this AD.

Parts Installation

(l) For Model MD-11 and MD-11F airplanes: As of the effective date of this AD, no person may install an FMC, P/N 4059050-906 through -912, or -920, on any airplane; except as required by the actions specified in paragraphs (h), (i), and (j) of this AD.

(m) For MD-10-10F and MD-10-30F airplanes: As of the effective date of this AD, no person may install a VIA digital computer, P/N 4081580-901 or 4081580-902, on any airplane.

Alternative Methods of Compliance (AMOCs)

(n)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2001-21-05 are approved as AMOCs for the corresponding provisions of paragraphs (f) through (i) of this AD.

(4) Doing the actions required by paragraph (j) or (k) of this AD, as applicable, is approved as an AMOC for the actions required by AD 2004-18-04, amendment 39-13782.

Issued in Renton, Washington, on February 1, 2006.
Ali Bahrami,
Manager, Transport Airplane Directorate, Aircraft Certification Service.

[FR Doc. E6-2176 Filed 2-14-06; 8:45 am]

BILLING CODE 4910-13-P